DEPARTMENT OF THE INTERIOR

Fish and Wildlife Service

[FWS-R4-R-2009-N0061; 40136-1265-0000-S3]

Banks Lake National Wildlife Refuge, Lanier County, GA

AGENCY: Fish and Wildlife Service, Interior.

ACTION: Notice of availability: draft comprehensive conservation plan and environmental assessment; request for comments.

SUMMARY: We, the U.S. Fish and Wildlife Service (Service), announce the availability of a draft comprehensive conservation plan and environmental assessment (Draft CCP/EA) for Banks Lake National Wildlife Refuge (NWR) for public review and comment. In this Draft CCP/EA, we describe the alternative we propose to use to manage this refuge for the 15 years following approval of the final CCP.

DATES: To ensure consideration, we must receive your written comments by July 6, 2009.

ADDRESSES: Send comments, questions, and requests for information to: Ms. Laura Housh, Refuge Planner, Okefenokee NWR, Route 2, Box 3330, Folkston, GA 31537. The Draft CCP/EA is available on compact disk or in hard copy. The Draft CCP/EA may also be accessed and downloaded from the Service's Internet Site: http://southeast.fws.gov/planning.

FOR FURTHER INFORMATION CONTACT: Ms. Laura Housh; telephone: 912/496-7366, ext. 244; fax: 912/496-3322; e-mail: laura_housh@fws.gov.

SUPPLEMENTARY INFORMATION:

Introduction

With this notice, we continue the CCP process for Banks Lake NWR. We started this process through a notice in the Federal Register on December 6, 2007 (72 FR 68892).

Background

The National Wildlife Refuge System Improvement Act of 1997 (16 U.S.C. 668dd-668ee) (Improvement Act), which amended the National Wildlife Refuge System Administration Act of 1966, requires us to develop a CCP for each national wildlife refuge. The purpose for developing a CCP is to provide refuge managers with a 15-year strategy for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Improvement Act.

Banks Lake NWR is managed by staff of the Okefenokee NWR. The refuge, which is part of a larger blackwater system, was established in 1985 for the protection and conservation of this unique environment, as well as for migratory and resident wildlife. It totals approximately 3,559 acres.

Development of the CCP began in October 2007, with preplanning activities such as gathering data and information, meeting with Okefenokee NWR staff, and preparing for the public scoping phase of the planning process. A public scoping meeting was held on January 24, 2008, in Lakeland, Georgia. The following issues were identified by the public, intergovernmental partners, and the Service: (1) Threats to biodiversity, listed species, and migratory birds; (2) need for data and comprehensive habitat management; (3) impacts to water quantity and quality; (4) need for an updated acquisition boundary; (5) future land acquisition needs; (6) drainage easement protection; (7) lack of information on refuge cultural resources; (8) need for increased law enforcement; (9) need for increased public use opportunities; and (10) need for adequate resources.

CCP Alternatives, Including Our Proposed Alternative

We developed three alternatives for managing the refuge and chose Alternative B as the proposed alternative. A full description is in the Draft CCP/EA. We summarize each alternative below.

Alternative A—No Action Alternative

Federal- and State-listed species, incidental sightings of wood storks, and round-tailed muskrats would continue to be recorded. The refuge would respond to nuisance alligators, and bald eagle nests would be protected. There would be no management for listed plants.

Management for migratory birds would remain minimal, with incidental sightings recorded. Aerial surveys would continue to be conducted by partners over refuge and adjacent lands with regard to the bird-aircraft strike program at Moody Air Force Base (MAFB).

With regard to nonnative and nuisance species, the refuge would continue to control water hyacinths through herbicidal applications, while submerged aquatic vegetation would be managed via periodic lake drawdowns. For aquatic wildlife, the refuge would organize apple snail surveys. There would be no management for terrestrial nonnative species.

Apart from aerial mapping conducted as part of The Nature Conservancy's 2003 Grand Bay-Banks Lake Ecosystem Plan, there would be no habitat management for the refuge's marshes, scrub/shrub, Carolina bays, or pine flatwoods. Management of native fishes would include surveys every other year and periodic mercury and lead surveys conducted by the State. Management for reptiles and amphibians would be minimal, consisting of incidental sightings reporting and occasional frog malformation surveys.

Management of water resources on the refuge would include water-quality monitoring during fish surveys. The refuge would continue to work with county governments and landowners to connect private systems to the city sewage utility, minimizing water quality degradation. The refuge would continue collaborative efforts with the city of Lakeland to facilitate running drawdown waters through Lake Irma. In addition, the refuge would protect, as necessary, its water rights from unauthorized private diversions.

Under this alternative, the refuge would not collect data to monitor the potential effects of climate change on its resources.

Approximately one-third of the refuge boundary (north and portion of east side) has been surveyed and signed. The lack of a complete boundary survey has prevented any potential land acquisition opportunities. The refuge would manage potential encroachment issues by working with adjacent landowners to remove any unauthorized structures or water diversion equipment. The refuge has a flowage easement to drain water via a creek through Lake Irma to the Alapaha River. The Georgia Department of Transportation has a 1,100-acre wetland mitigation area that lies adjacent to the refuge. No cooperative management agreement would be developed for that land. Archaeological and historical resources management would be minimal under the current alternative, with surveys having been conducted at the old mill and dam sites. Law enforcement would consist of an intermittent presence of refuge staff, as well as county and city officers.

The refuge currently does not collect an entrance fee. Visitor welcome and orientation information is provided by an onsite kiosk, while the concession operation also provides information to visitors. State directional signs are in place. The refuge has onsite volunteers for a majority of the year. Outreach efforts consist of periodic articles submitted to the local media and public notices issued for proposed actions.

Hunting is currently not permitted on the refuge, and under this alternative this activity would not be evaluated for potential authorization. The refuge is open year-round, both day and night, for fishing. There is an access area and well-established fishing pier at the entrance area. In addition, an annual kids' fishing day is held in collaboration with partners. Periodic drawdowns are conducted to enhance fisheries. Under this alternative, fishing opportunities would likely remain unchanged. Wildlife observation and photography opportunities are relatively limited and would not increase appreciably under this alternative. The concession offers canoe and kayak rentals, while a boat ramp allows the launching of private watercraft. The fishing pier offers limited wildlife observation and photography opportunities. The refuge does not offer any other recreational opportunities, and camping is not permitted.

In the absence of a friends group, the Okefenokee Wildlife League provides assistance at Banks Lake NWR. Generally, a volunteer is stationed at the refuge year-round, with travel trailer and hook-up provided.

Since no staff is permanently assigned to the refuge, volunteers and Okefenokee NWR staff provide the majority of the management. Some duties are also contracted out to the concessionaire. Staffing is not expected to change under this alternative. Refuge infrastructure (e.g., concession, access area, water control structure, restrooms, sewage system, city water, piers, walkways, boat ramp, hiking trail, volunteer housing and recreational vehicle pad, parking lot, boat storage area, and entrance sign) would be repaired as needed under this alternative. With regard to intergovernmental coordination, the refuge would continue to meet periodically with a number of Federal, State, and local entities to update them on refuge programs and planned activities.

Alternative B—Expanded Management by the Service (Proposed Alternative)

Management would include monitoring efforts to determine trends (relative numbers and use patterns) for wood storks and round-tailed muskrats. Management for bald eagles would remain at current levels. The refuge would continue to ban alligator hunting until population data are available. It would increase public awareness of the dangers of feeding alligators. In addition, the refuge would work with the State to respond appropriately to nuisance alligator complaints and to monitor alligator populations. The refuge would coordinate surveys for listed plant species.

For migratory birds, the refuge would determine trends in relative numbers and use patterns through monitoring of waterfowl, wading birds, marshbirds, and raptors. The refuge would conduct breeding bird surveys for neotropical migratory birds. With regard to bird-aircraft collision minimization efforts carried out by MAFB, the refuge would increase surveys and data-sharing regarding wildlife services.

Management of nonnative and nuisance species would increase. The refuge would establish boat and trailer cleaning stations. An annual weed control program would be developed, with a goal of keeping area coverage of water hyacinths to less than 20 percent. It would expand survey efforts for nonnative aquatic wildlife species of regional concern and increase public awareness to promote early detection. The refuge would survey lands for nonnative species on a 3-year cycle, and work with partners to identify, locate, control, and eliminate (where possible) exotic species.

Under this alternative, habitat management would be expanded. For Banks Lake NWR, the refuge would identify benchmarks for initiating drawdowns. In addition, the refuge would map and classify vegetation communities sufficient to manage habitat to achieve the refuge mission and the goals recommended in the Grand Bay-Banks Lake Habitat Site Conservation Plan.

For native fishes, the refuge would expand Alternative A with a creel survey. It would also work with the State to develop a trophy largemouth bass sports fishery. With respect to reptiles and amphibians, the refuge would obtain baseline information and determine population trends through increased monitoring.

The management of refuge water resources would increase under this alternative. The refuge would establish a permanent water quality monitoring system. In addition, a contaminants monitoring regime for septic, non-point source pollution, and urban/agricultural runoff would be established. Water quantity would be managed the same as under Alternative A. Furthermore, the refuge would establish water budgets, fill drain curves, and other important hydrological parameters for Banks Lake. It would also collaborate with downstream landowners to maximize drawdown capabilities.

The refuge would institute management activities to address the impacts of climate change on refuge resources. The refuge would coordinate with researchers and partners to identify climate change research needs for the refuge, investigating the impacts of climate change on fish and wildlife, listed species, vegetative communities, water quality and quantity, and other important resources.

Management of the refuge would focus on the lands and waters where the Service is confident that it has jurisdiction. Additional title work and a complete survey of the boundary would be required to settle any issue regarding the refuge boundary. The refuge would establish an acquisition boundary and purchase land from willing sellers as funding becomes available. It would identify potential threats early in the planning process and work cooperatively with local planning departments and elected officials to protect the refuge from the impacts of urbanization. The refuge would establish formal cooperative agreements with adjacent landowners to maintain the Banks Lake flowage easement. It would also negotiate a long-term management agreement with the State to manage the wetland mitigation area as part of the refuge. The refuge would conduct a cultural resource survey of remaining uplands. The law enforcement presence on the refuge would be increased as the public use program expanded.

Under this alternative, the refuge would evaluate the potential for an entrance fee program. The refuge would create a refuge brochure with map. Regular information would be provided to the public, with updates on refuge activities and wildlife-dependent recreational opportunities.

A compatibility determination for hunting would be carried out, and hunting could be authorized under this alternative if adequate opportunities and resources are determined to be available. The refuge would also develop trophy warm-water fishing opportunities through the use of slot and bag limits.

For wildlife viewing and photography opportunities, the refuge would develop a bird list and provide programs that help the public develop wildlife viewing and photography skills. In addition, marked boat trail(s) would be established in the deeper water channels of the lake to provide access to fishing and wildlife viewing areas. The refuge would also evaluate a new canoe trail.

To expand environmental education and interpretation, the refuge would establish a formal program with local schools and Grand Bay Environmental Center to facilitate these programs on the refuge. It would also add infrastructure to assist in these efforts.

Other recreational opportunities would be the same as under Alternative A. In addition to Alternative A, the refuge would encourage commercial visitor services appropriate with the priority public uses as defined in the Improvement Act.

The refuge would also develop a friends group. It would expand Alternative A by developing an active local volunteer group.

Under Alternative B, the following permanent, full-time staff would be assigned to the refuge: Refuge Operations Specialist, Wildlife Biologist, Maintenance worker, and Park Ranger. In addition, a shared Fisheries Biologist would work at the refuge on a part-time basis. With regard to infrastructure, the refuge would add an office and workspace in the visitor contact area to accommodate any staff permanently assigned to the refuge. It would work with State and local authorities to place refuge information signs on Interstate 75. Intergovernmental coordination and partnerships would remain the same as under Alternative A.

Alternative C—Cooperative Administration With State Natural Resource Agencies

Under this alternative, management of woodstorks and bald eagles would include obtaining population trend data. Additionally, nesting platforms would be constructed to increase breeding opportunities on the refuge, with the added benefit of increasing photography and observation opportunities if these efforts were successful. For alligators, the refuge would work with the State to determine population trends. In addition, educational programs would be developed to help minimize alligator-human conflicts. Management of round-tailed muskrats and State-listed plants would be the same as under Alternative B. Management of migratory birds would be similar to that under Alternative B, with the exception that photo blinds would be constructed to provide more birding opportunities. Management of native fishes would be increased by working with the State to develop a stocking program, as warranted. For herpetological and nonnative species, habitats, water resources, and climate change management would be the same as under Alternative B.

Management of the refuge boundary and cultural resources would be the same as under Alternative B. The refuge would support land acquisition by partners to develop public State lands adjacent to the refuge. It would also develop a long-term management agreement with State natural resource agencies to manage current refuge access and the concession area. Under this alternative, these State entities would provide additional law enforcement on the refuge, and the State lands would provide additional access points to the public. Law enforcement would be shared between the State and the Service.

Under this alternative, the refuge would coordinate the potential for an entrance fee program with the State. The State would also be the primary information provider to the public. Hunting and fishing opportunities would be the same as under Alternative B.

The State would be responsible for developing wildlife observation and photography opportunities on the refuge, including adding new trails (e.g., land or boat). The State would also be responsible for all environmental education and interpretation opportunities on the refuge.

The State entities would develop nearby camping and other recreational opportunities on their land. Meanwhile, the refuge would continue to issue special use permits for commercial visitor services on refuge lands and waters.

The State entities and refuge would seek to establish a friends group and volunteer program to support both units.

Under this alternative, the refuge would establish the following permanent, full-time positions: Refuge Operations Specialist and Wildlife Biologist. A shared Fisheries Biologist would work part-time on the refuge. Any other positions would be provided by the State. The operation and maintenance of the current facilities would become the responsibility of the State entities. In addition to the intergovernmental coordination required under Alternative A, a long-term management agreement with the State natural resource agencies would be needed for them to administer the current recreation area and facility. Partnerships would remain as under Alternative A.

Next Step

After the comment period ends, we will analyze the comments and address them.

Public Availability of Comments

Before including your address, phone number, e-mail address, or other personal identifying information in your comment, you should be aware that your entire comment, including your personal identifying information, may be made publicly available at any time. While you can ask us in your comment to withhold your personal identifying information from public review, we cannot guarantee that we will be able to do so.

Authority: This notice is published under the authority of the National Wildlife Refuge System Improvement Act of 1997, Public Law 105-57.

Dated: April 21, 2009.
Jacquelyn B. Parrish,
Acting Regional Director.

[FR Doc. E9-13036 Filed 6-3-09; 8:45 am]

BILLING CODE 4310-55-P